DEPARTMENT OF THE INTERIOR

National Park Service

[NPS-WASO-NAGPRA-NPS0037917; PPWOCRADN0-PCU00RP14.R50000]

Notice of Inventory Completion: Monterey Peninsula College, Monterey, CA

AGENCY: National Park Service, Interior.

ACTION: Notice.

SUMMARY: In accordance with the Native American Graves Protection and Repatriation Act (NAGPRA), the Monterey Peninsula College has completed an inventory of human remains and has determined that there is no lineal descendant and no Indian Tribe or Native Hawaiian organization with cultural affiliation.

DATES: Upon request, repatriation of the human remains in this notice may occur on or after June 12, 2024.

ADDRESSES: Jon Knolle, Vice President of Academic Affairs, Monterey Peninsula College, Monterey, CA 93940, telephone (831) 646-3030, email jknolle@mpc.edu.

SUPPLEMENTARY INFORMATION: This notice is published as part of the National Park Service's administrative responsibilities under NAGPRA. The determinations in this notice are the sole responsibility of Monterey Peninsula College, and additional information on the determinations in this notice, including the results of consultation, can be found in its inventory or related records. The National Park Service is not responsible for the determinations in this notice.

Abstract of Information Available

Human remains representing, at least, one individual have been identified based on the information available. No associated funerary objects are present. At unknown dates, the human remains were removed from unknown locations in Monterey, CA, and deposited at the Monterey Peninsula College Anthropology Department. The College found articles from a former student from the 1960s indicating human remains were discovered in Monterey, CA, “12 miles south of Point Lobos” and “near Jack's Peak” by a former student and donated to the College. The College has no evidence that the human remains referenced in the article are those listed in this notice other than the location of the human remains. No further information is known about the provenience of these human remains.

Consultation

Invitations to consult were sent to the Tule River Indian Tribe of the Tule River Reservation, California and to the following Indian groups without Federal recognition: Amah Mutsun Tribal Band in Galt, CA; Amah Mutsun Tribal Band of Mission San Juan Bautista in Lakeport, CA; Costanoan Ohlone Rumsen-Mutsen Tribe in Watsonville, CA; Costanoan Rumsen Carmel Tribe in Pomona, CA; Esselen Tribe of Monterey County in Carmel Valley, CA; Indian Canyon Mutsun Band of Costanoan in Hollister, CA; Muwekma Ohlone Indian Tribe of the SF Bay Area in Castro Valley, CA; North Valley Yokuts Tribe in Linden, CA; Ohlone/Costanoan-Esselen Nation in Monterey, CA; The Ohlone Indian Tribe in Fremont, CA; KaKoon Ta Ruk Band of Ohlone-Costanoan Indians of the Big Sur Rancheria in Woodland, CA; Rumsen Am:a Tur:ataj Ohlone in Hesperia, CA; and Tamien Nation in San Jose, CA. The Ohlone/Costanoan Esselen Nation responded to the invitation and participated in consultation.

Cultural Affiliation

The following types of information about the cultural affiliation of the human remains in this notice are available: geographical and other relevant information. The information, including the results of consultation, reasonably identified:

1. The Ohlone/Costanoan as an earlier group connected to the human remains;

2. The Tule River Indian Tribe of the Tule River Reservation, California as an Indian Tribe connected to the human remains; and

3. No relationship of shared group identity between the earlier group and the Indian Tribe that can be reasonably traced through time.

Determinations

The Monterey Peninsula College has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or a culturally affiliated Indian Tribe or Native Hawaiian organization.

Upon request, repatriation of the human remains described in this notice may occur on or after June 12, 2024. If competing requests for repatriation are received, Monterey Peninsula College must determine the most appropriate requestor prior to repatriation. Requests for joint repatriation of the human remains are considered a single request and not competing requests. The Monterey Peninsula College is responsible for sending a copy of this notice to any consulting lineal descendant, Indian Tribe, or Native Hawaiian organization.

Authority: Native American Graves Protection and Repatriation Act, 25 U.S.C. 3003, and the implementing regulations, 43 CFR 10.10.

Dated: May 3, 2024.
Melanie O'Brien,
Manager, National NAGPRA Program.

[FR Doc. 2024-10325 Filed 5-10-24; 8:45 am]

BILLING CODE 4312-52-P